DEPARTMENT OF HOUSING AND URBAN DEVELOPMENT

[Docket No. FR-4656-N-02]

Notice of Proposed Information Collection: Comment Request; Issuer's Monthly Accounting Reports

AGENCY: Office of the President of the Government National Mortgage Association (Ginnie Mae), HUD.

ACTION: Notice.

SUMMARY: The proposed information collection requirement described below will be submitted to the Office of Management and Budget (OMB) for review, as required by the Paperwork Reduction Act. The Department is soliciting public comments on the subject proposal.

DATES: Comments Due Date: April 30, 2001.

ADDRESSES: Interested persons are invited to submit comments regarding this proposal. Comments should refer to the proposal by name and/or OMB Control Number and should be sent to: Sonya Suarez, Government National Mortgage Association, Office of Policy, Planning and Risk Management, Department of Housing & Urban Development, 451-7th Street, SW., Room 6226, Washington, DC 20410.

FOR FURTHER INFORMATION CONTACT: Sonya Suarez, Ginnie Mae, (202) 708-2772 (this is not a toll-free number), for copies of the proposed forms and other available documents.

SUPPLEMENTARY INFORMATION: The Department will submit the proposed information collection to OMB for review, as required by the Paperwork Reduction Act of 1995 (44 U.S.C. chapter 35, as amended).

Through this Notice, the Department is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including the use of appropriate automated collection techniques or other forms of information technology, e.g., permitting electronic submission of responses.

This Notice also lists the following information:

Title of Proposal: Issuer's Monthly Accounting Reports.

OMB Control Number, if applicable: 2503-0004.

Description of the need for the information and proposed use: Issuers use these forms to report monthly on their securities transactions. The data is collected to assure Ginnie Mae that issuers are performing pursuant to the terms of the guaranty agreements and investors are receiving all funds due them.

Agency form numbers, if applicable: HUD Form 11710-A, 11710-B, 11710-C, 11710-D and 11710-E

Members of affected public: For-profit business (mortgage industry trade associations, securities companies, accounting firms, law firms, service providers, etc.)

Estimation of the total numbers of hours needed to prepare the information collection including number of respondents, frequency of response, and hours of response: There are approximately 445 active issuers in the Mortgage-Backed Securities Program. Program regulation requires issuers to maintain adequate accounting records and to provide Ginnie Mae with reports with respect to MBS pools. The information is compiled by the issuer and submitted electronically to Ginnie Mae. The estimated time it takes to submit the collection of information varies. It takes approximately .16 minutes to complete and submit the required data for the five forms monthly to Ginnie Mae. Approximately 5% of 430,011 pools were issued monthly in 2000. Thus, approximately 21,500 pools were issued monthly. The following mathematical variables are used to estimate the approximate total annual burden hours.

(1) Frequency + total issuers = monthly submissions 21,500 + 445 = 21,945.

(2) Monthly submissions × 12 months = total responses 21,945 × 12 = 263,340.

(3) Total responses × ave. minutes to complete form = annual burden hours.

263,340 × .16 = 42,235 Total Annual Burden Hours.

Status of the proposed information collection: This is a reinstatement, with change, of a previously approved collection for which approval has expired.

Authority: Section 3506 of the Paperwork Reduction Act of 1995, 44 U.S.C. chapter 35, as amended.

Dated: February 14, 2001.
George S. Anderson,
Executive Vice President, Ginnie Mae.

[FR Doc. 01-4791 Filed 2-26-01; 8:45 am]

BILLING CODE 4210-01-M